DEPARTMENT OF COMMERCE

Bureau of the Census

[Docket Number 040408110-5026-02]

RIN 0607-AA42

2010 Census Redistricting Data Program Commencement of Phase 1: State Legislative District Project

AGENCY: Bureau of the Census, Department of Commerce.

ACTION: Notice of program.

SUMMARY: This notice announces the commencement of Phase 1 of the 2010 Redistricting Data Program: The State Legislative District Project. This first phase specifically provides States the opportunity to provide their legislative districts (House and Senate) to the Bureau of the Census (Census Bureau) for the development of data products by legislative district. States may continue to update their legislative district plans with any changes during the decade as they currently do with changes to their U.S. Congressional plans.

DATES: Comments on this notice must be received by March 17, 2005. The deadline for States to notify the Census Bureau that they wish to participate in Phase 1: State Legislative District Project is August 1, 2005.

ADDRESSES: Please direct all written comments on this notice to the Director, U.S. Census Bureau, Room 2049, Federal Building 3, Washington, DC 20233.

FOR FURTHER INFORMATION CONTACT: Catherine C. McCully, Chief of the Census Redistricting Data Office, U.S. Census Bureau, Room 3631, Federal Building 3, Washington, DC 20233, telephone (301) 763-4039.

SUPPLEMENTARY INFORMATION: Under the provisions of Public Law 94-171 (Title 13, United States Code (U.S.C.), Section 141(c)), the Director of the Census Bureau is required to provide the “officers or public bodies with initial responsibility for legislative apportionment or districting of each state * * *” with the opportunity to specify small geographic areas (for example, voting districts, wards, and election precincts) for which they wish to receive decennial census population totals for the purpose of reapportionment and redistricting.

By April 1 of the year following the decennial census, the Secretary is required to furnish the State officials or their designees with population counts for counties, cities, census blocks, and State-specified congressional districts, legislative districts, and voting districts that meet Census Bureau technical criteria.

In accordance with the provisions of Title 13, U.S.C. Section 141(c), and on behalf of the Secretary of Commerce, the Director announces the commencement of Phase 1 of the 2010 Census Redistricting Data Program. The purpose of this notice is to provide further information on the commencement of Phase 1 of the 2010 Census Redistricting Data Program, Phase 1—State Legislative District Project. Future notices will address the other phases of the 2010 Program.

The 2010 Census Redistricting Data Program was initially announced on May 13, 2004, in the Federal Register (69 FR 26547). The Census Bureau received and responded to two comments regarding the Redistricting Data Program. Both comments were concerned with the effect the census residence rules have on State legislative redistricting. In response, the Census Bureau explained that, while we work closely with the States to identify new construction; correct political boundaries; and add nonstandard features for use as block boundaries, our data tabulation programs consistently use the residence rules established for census collection and tabulation purposes.

Beginning in the winter of 2005, the Director of the Census Bureau will invite the Governor and the legislative leadership of the majority and minority parties in each State to designate a liaison to work with the Census Bureau on the 2010 Census Redistricting Data Program. In a separate letter, the Census Bureau will invite each State to participate in Phase 1, the State Legislative District Project. This phase will include a verification step and tabulations based on Census 2000 data. In addition, ongoing changes to Congressional district plans will be collected, and new tabulations will be developed, as needed. Boundaries of legislative and Congressional districts will be held as 2010 tabulation census block boundaries for those participating States. Participation in Phase 1 is not a prerequisite for participation in Phase 2 or 3 of the 2010 Census Redistricting Data Program. With the commencement of the American Community Survey (ACS), the Census Bureau will produce ACS data for States participating in Phase 1 on a flow basis. For the 2010 census, the ACS will replace the long form.

The deadline for each State to respond with intent to participate is August 1, 2005. The Census Bureau will work with each State or organize a kickoff meeting to ensure States are well-informed on the benefits of working with the Census Bureau towards a successful 2010 census.

Executive Order 12866

This notice has been determined to be not significant under Executive Order 12866.

Dated: February 9, 2005.
Hermann Habermann,
Deputy Director and Chief Operating Officer, Bureau of the Census.

[FR Doc. 05-2876 Filed 2-14-05; 8:45 am]

BILLING CODE 3510-07-P